ENVIRONMENTAL PROTECTION AGENCY

40 CFR Part 271

[FRL-7036-9]

South Carolina: Final Authorization of State Hazardous Waste Management Program Revision

AGENCY: Environmental Protection Agency (EPA).

ACTION: Immediate final rule.

SUMMARY: South Carolina has applied to EPA for Final authorization of the changes to its hazardous waste program under the Resource Conservation and Recovery Act (RCRA). EPA has determined that these changes satisfy all requirements needed to qualify for Final authorization, and is authorizing the State's changes through this immediate final action. EPA is publishing this rule to authorize the changes without a prior proposal because we believe this action is not controversial and do not expect comments that oppose it. Unless we get written comments which oppose this authorization during the comment period, the decision to authorize South Carolina's changes to their hazardous waste program will take effect as provided below. If we get comments that oppose this action, we will publish a document in the Federal Register withdrawing this rule before it takes effect and a separate document in the proposed rules section of this Federal Register will serve as a proposal to authorize the changes.

DATES: This Final authorization will become effective on October 22, 2001 unless EPA receives adverse written comment by September 20, 2001. If EPA receives such comment, it will publish a timely withdrawal of this immediate final rule in the Federal Register and inform the public that this authorization will not take effect.

ADDRESSES: Send written comments to Narindar Kumar, Chief RCRA Programs Branch, Waste Management Division, U.S. Environmental Protection Agency, Atlanta Federal Center, 61 Forsyth Street, SW., Atlanta, GA, 30303-3104; (404) 562-8440. You can view and copy South Carolina's applications from 9:00 a.m. to 4:00 p.m. at the following addresses: South Carolina Department of Health and Environmental Control, 2600 Bull Street, Columbia, South Carolina 29201, (803) 896-4174; and EPA Region 4, Atlanta Federal Center, Library, 61 Forsyth Street, SW., Atlanta, Georgia 30303; (404) 347-4216.

FOR FURTHER INFORMATION CONTACT: Narindar Kumar, Chief RCRA Programs Branch, Waste Management Division, U.S. Environmental Protection Agency, Atlanta Federal Center, 61 Forsyth Street, SW., Atlanta, GA, 30303-3104; (404) 562-8440.

SUPPLEMENTARY INFORMATION:

A. Why Are Revisions to State Programs Necessary?

States which have received final authorization from EPA under RCRA section 3006(b), 42 U.S.C. 6926(b), must maintain a hazardous waste program that is equivalent to, consistent with, and no less stringent than the Federal program. As the Federal program changes, States must change their programs and ask EPA to authorize the changes. Changes to State programs may be necessary when Federal or State statutory or regulatory authority is modified or when certain other changes occur. Most commonly, States must change their programs because of changes to EPA's regulations in 40 Code of Federal Regulations (CFR) parts 124, 260 through 266, 268, 270, 273 and 279.

B. What Decisions Have We Made in This Rule?

We conclude that South Carolina's applications to revise its authorized program meet all of the statutory and regulatory requirements established by RCRA. Therefore, we grant South Carolina Final authorization to operate its hazardous waste program with the changes described in the authorization applications. South Carolina has responsibility for permitting Treatment, Storage, and Disposal Facilities (TSDFs) within its borders (except in Indian Country) and for carrying out the aspects of the RCRA program described in its revised program applications, subject to the limitations of the Hazardous and Solid Waste Amendments of 1984 (HSWA). New federal requirements and prohibitions imposed by Federal regulations that EPA promulgates under the authority of HSWA take effect in authorized States before they are authorized for the requirements. Thus, EPA will implement those requirements and prohibitions in South Carolina, including issuing permits, until the State is granted authorization to do so.

C. What Is the Effect of Today's Authorization Decision?

The effect of this decision is that a facility in South Carolina subject to RCRA will now have to comply with the authorized State requirements instead of the equivalent federal requirements in order to comply with RCRA. South Carolina has enforcement responsibilities under its state hazardous waste program for violations of such program, but EPA retains its authority under RCRA sections 3007, 3008, 3013, and 7003, which include, among others, authority to:

• Do inspections, and require monitoring, tests, analyses or reports;

• Enforce RCRA requirements and suspend or revoke permits;

• Take enforcement actions regardless of whether the State has taken its own actions.

This action does not impose additional requirements on the regulated community because the regulations for which South Carolina is being authorized by today's action are already effective, and are not changed by today's action.

D. Why Wasn't There a Proposed Rule Before Today's Rule?

EPA did not publish a proposal before today's rule because we view this as a routine program change and do not expect comments that oppose this approval. We are providing an opportunity for public comment now. In addition to this rule, in the proposed rules section of today's Federal Register we are publishing a separate document that proposes to authorize the state program changes.

E. What Happens if EPA Receives Comments That Oppose This Action?

If EPA receives comments that oppose this authorization, we will withdraw this rule by publishing a document in the Federal Register before the rule becomes effective. EPA will base any further decision on the authorization of the state program changes on the proposal mentioned in the previous paragraph. We will then address all public comments in a later final rule. You may not have another opportunity to comment. If you want to comment on this authorization, you must do so at this time.

If we receive comments that oppose only the authorization of a particular change to the State hazardous waste program, we will withdraw that part of this rule but the authorization of the program changes that the comments do not oppose will become effective on the date specified above. The Federal Register withdrawal document will specify which part of the authorization will become effective, and which part is being withdrawn.

F. What Has South Carolina Previously Been Authorized for?

South Carolina initially received Final authorization on November 8, 1985, effective November 22, 1985 (50 FR 46437) to implement the RCRA hazardous waste management program. We granted authorization for changes to their program on September 8, 1988, effective November 7, 1988 (53 FR 34758), February 10, 1993, effective April 12, 1993 (58 FR 7865), November 29, 1994, effective January 30, 1995, April 26, 1996, effective June 25, 1996 (61 FR 18502), and October 4, 2000, effective December 4, 2000 (65 FR 59135).

G. What Changes Are We Authorizing With Today's Action?

On July 15, 1999, South Carolina submitted final complete program revision applications, seeking authorization of their changes in accordance with 40 CFR 271.21. We now make an immediate final decision, subject to receipt of written comments that oppose this action, that South Carolina's hazardous waste program revision satisfies all of the requirements necessary to qualify for Final authorization. Therefore, we grant South Carolina Final authorization for the following program changes:

Federal requirement | Federal Register | Analogous State authority ¹
Recovered Oil Exclusion. Checklist 135 | 59 FR 38536, 07/28/94 | SCHWMA § 44-56-40.
|  | SCHWM R.61-79.261.3(c)(2)(ii)(B).
|  | SCHWM R.61-79.261.4(a)(12).
|  | SCHWM R.61-79.261.6(a)(3)(iv); R.61-79.261.6(a)(3)(v); R.61-79.261.6; R.61-79.266.100(b)(3).
Removal of the Conditional Exemption for Certain Slag Residues. Checklist 136 | 59 FR 43496, 08/24/94 | SCHWMA § 44-56-30.
|  | SCHWMA R.61-79.266.20(c); R.61-79.268.41.
Universal Treatment Standards and Treatment Standards for Organic Toxicity Characteristic Wastes and Newly Listed Wastes. Checklist 137 | 59 FR 47982, 09/19/94; 60 FR 242-302, 01/03/95 | SCHWMA § 44-56-30. SCHWMA § 44-56-40. SCHWM R.61-79.260.30. SCHWM R.61-79.260.30(b); R.61-79.260.31(a); R.61-79.260.31(b); R.61-79.260.32 intro; R.61-79.260.33 intro; R.61-79.260.33(a), (b); R.61-79.261.2(e)(1)(iii); R.61-79.264.1(g)(6); R.61-79.265.1(c)(10); R.61-79.266.23(a); R.61-79.266.100(c)(1); R.61-79.266.100(c)(3); R.61-79.266.100(c)(3)(i); R.61-79.266.100(c)(3)(i)(A); R.61-79.266.100(c)(3)(ii); R.61-79.268/Appendix XIII; R.61-79.268.1(c)(3); R.61-79.268.1(e)(4)-(e)(5); R.61-79.268.2(g); R.61-79.268.2(i); R.61-79.268.7(a)-(a)(1)(vi); R.61-79.268.7(a)(2)-(a)(2)(ii); R.61-79.268.7(a)(3)-(a)(3)(vii); R.61-79.688.7(a)(4)-(a)(10); R.61-79.268.7(b); R.61-79.268.7(b)(4)(ii); R.61-79.268.7(b)(5)(iv); R.61-79.268.7(d)-(d)(1); R.61-79.268.9(a); R.61-79.268.9(d)(1)(i)-(d)(2)(ii); R.61-79.268.38(a)-(e); R.61-79.268.40(a)-(f); R.61-79.268.40/Table; R.61-79.268.41 and Table CCWE; R.61-79.268.42 note; R.61-79.268.42(a); R.61-79.268.42(a)/Table 1; R.61-79.268.42(a)/Table 2; R.61-79.268.42(a)/Table 3; R.61-79.268.42(c)(2); R.61-79.268.42(d); R.61-79.268.43; R.61-79.268.43/Table CCW; R.61-79.268.45(b)(2); R.61-79.268.46; R.61-79.268.48(a); R.61-79.268.48/Table UTS; R.61-79.268/Appendix IV; R.61-79.268/Appendix X.
Testing and Monitoring Activities, Amendment I. Checklist 139 | 60 FR 3089, 1/13/95 | SCHWMA 44-56-30. SCHWMA 44-56-40. SCHWMA 44-56-50. SCHWM R.61-79.260.11(a).
Carbamate Production Identification and Listing of Hazardous Waste. Checklist 140 | 60 FR 7824, 02/09/95; 60 FR 19165, 04/17/95; 60 FR 25619, 06/12/95 | SCHWMA 44-56-30. SCHWMA 44-56-40. SCHWM R.61-79.261.3(a)(2)(iv)(E); R.61-79.261.3(a)(2)(iv)(F); R.61-79.261.3(a)(2)(iv)(G); R.61-79.261.3(c)(2)(ii)(D); R.61-79.261.32; R.61-79.261.33(e); R.61-79.261.33(f); R.61-79.261/Appendix VII; R.61-79.261/Appendix VIII.
Testing and Monitoring Activities, Amendment II. Checklist 141 | 60 FR 17001, 04/04/95 | SCHWMA 44-56-30. SCHWMA 44-56-40. SCHWMA 44-56-50. SCHWM R.61-79.260.11(a).
Universal Waste: General Provisions. Checklist 142A | 60 FR 25492, 05/11/95 | SCHWMA 44-56-30. SCHWMA 44-56-40. SCHWMA 44-56-50.
|  | SCHWMA 44-56-60.
|  | SCHWMA 44-56-70.
|  | SCHWMA 44-56-80.
|  | SCHWMA 44-56-90.
|  | SCHWMA 44-56-120.
|  | SCHWMA 44-56-140.
|  | SCHWMA 44-56-170.
|  | SCHWM R.61-79.260.10; R.61-79.261.5(c)(2)-(c)(6); R.61-79.261.5(f)(3) intro-(f)(3)(vi); R.61-79.261.5(g)(3) intro-(g)(3)(vi); R.61-79.261.9 intro; R.61-79.262.10(b)-(g); R.61-79.262.11(d); R.61-79.264.1(g)(11) intro; R.61-79.265.1(c)(14) intro; R.61-79.268.1(f) intro; R.61-79.270.1(c)(2)(viii) intro; R.61-79.273.1(a) intro; R.61-79.273.1(b); R.61-79.273.5(a); R.61-79.273.5(a)(1)-(a)(2); R.61-79.273.5(b); R.61-79.273.6; R.61-79.273.10; R.61-79.273.11 intro; R.61-79.273.11(a)-(b); R.61-79.273.12; R.61-79.273.14 intro; R.61-79.273.15; R.61-79.273.15(a)-(b); R.61-79.273.15(c)-(c)(6); R.61-79.273.16; R.61-79.273.17(a)-(b); R.61-79.273.18(a)-(h); R.61-79.273.19; R.61-79.273.20 intro; R.61-79.273.20(a)-(c); R.61-79.273.30; R.61-79.273.31 intro; R.61-79.273.31(a)-(b); R.61-79.273.32(a)(1)-(a)(2); R.61-79.273.32(b)-(b)(5); R.61-79.273.34 intro; R.61-79.273.35(a)-(b); R.61-79.273.35(c)-(c)(6); R.61-79.273.36; R.61-79.273.37(a)-(b); R.61-79.273.38(a)-(h); R.61-79.273.39(a); R.61-79.273.39(a)(1)-(a)(3); R.61-79.273.39(b); R.61-79.273.39(b)(1)-(b)(3); R.61-79.273.39(c)(1)-(c)(2); R.61-79.273.40 intro; R.61-79.273.40(a)-(c); R.61-79.273.50; R.61-79.273.51 intro; R.61-79.273.51(a)-(b); R.61-79.273.52(a)-(b); R.61-79.273.53(a)-(b); R.61-79.273.54(a)-(b); R.61-79.273.55(a)-(b); R.61-79.273.56 intro; R.61-79.273.56(a)-(b); R.61-79.273.60(a)-(b); R.61-79.273.61(a)-(d); R.61-79.273.62(a)-(b); R.61-79.273.70 intro; R.61-79.273.70(a)-(c).
Universal Waste Rule: Specific Provisions for Batteries. Checklist 142B | 60 FR 25492, 5/11/95 | SCHWMA 44-56-30. SCHWMA 44-56-40. SCHWMA 44-56-50. SCHWMA 44-56-60.
|  | SCHWMA 44-56-70.
|  | SCHWMA 44-56-80.
|  | SCHWMA 44-56-90.
|  | SCHWMA 44-56-120.
|  | SCHWMA 44-56-140.
|  | SCHWMA 44-56-170.
|  | SCHWMA R.61-79.260.10; R.61-79.261.6(a)(3)(ii); R.61-79.261.(6(a)(3)(iv)-(vi); R.61-79.261.9(a); R.61-79.264.1(g)(11)(i); R.61-79.265.1(c)(14)(i); R.61-79.266.80(a); R.61-79.266.80(b)intro; R.61-79.268.1(f)(1); R.61-79.270.1(c)(2)(viii)(A); R.61-79.273.1(a)(1); R.61-79.273.2(a)(1)-(a)(2); R.61-79.273.2(b)-(b)(3); R.61-79.273.2(c)(1)-(c)(2); R.61-79.273.6; R.61-79.273.13(a); R.61-79.273.13(a)(1)-(a)(3)(ii); R.61-79.273.14(a); R.61-79.273.33(a); R.61-79.273.33(a)(1)-(a)(3)(ii); R.61-79.273.34(a).
Universal Waste Rule: Specific Provisions for Pesticides. Checklist 142C | 60 FR 25492, 5/11/95 | SCHWMA 44-56-30. SCHWMA 44-56-30. SCHWMA 44-56-40. SCHWMA 44-56-50.
|  | SCHWMA 44-56-60.
|  | SCHWMA 44-56-70.
|  | SCHWMA 44-56-80.
|  | SCHWMA 44-56-90.
|  | SCHWMA 44-56-120.
|  | SCHWMA 44-56-140.
|  | SCHWMA 44-56-170.
|  | SCHWMA R.61-79.79.260.10; R.61-79.261.9(b); R.61-79.261.1(g)(11)(ii); R.61-79.265.1(c)(14)(ii); R.61-79.268.1(f)(2); R.61-79.270.1(c)(2)(viii)(B); R.61-79.273.1(a)(2); R.61-79.273.3(a); R.61-79.273.3(a)(1)-(a)(2); R.61-79.273.3(b); R.61-79.273.3(b)(1)-(b)(4); R.61-79.273.3(c)(1)-(c)(2); R.61-79.273.3(d); R.61-79.273.3(d)(1)-(d)(2); R.61-79.273.6; R.61-79.273.13(b); R.61-79.273.13(b)-(b)(4); R.61-79.273.14(b); R.61-79.273.13(b)(1)-(c)(2); R.61-79.273.32(a)(1)-(a)(3); R.61-79.273.33(b)-(b)(4); R.61-79.273.34(b)-(b)2); R.61-79.273.34(c)-(c)(2).
Universal Waste Rule: Specific Provisions for Thermostats. Checklist 142D | 60 FR 25492, 5/11/95 | SCHWMA 44-56-30. SCHWMA 44-56-30. SCHWMA 44-56-40. SCHWMA 44-56-50.
|  | SCHWMA 44-56-60.
|  | SCHWMA 44-56-70.
|  | SCHWMA 44-56-80.
|  | SCHWMA 44-56-90.
|  | SCHWMA 44-56-120.
|  | SCHWMA 44-56-140.
|  | SCHWMA 44-56-170.
|  | SCHWMA R.61-79.260.10; R.61-79.261.9(c); R.61-79.264.1(g)(11)(iii); R.61-79.265.1(c)(14)(iii); R.61-79.268.1(f)(3); R.61-79.270.1(c)(2)(viii)(C); R.61-79.273.4(a); R.61-79.273.4(b); R.61-79.273.4(b)(1)(-(b)(2); R.61-79.273.4(c)(1)-(c)(2); R.61-79.273.6; R.61-79.273.13(c); R.61-79.273.13(c)(1); R.61-79.273.13(c)(2)-(c)(2)(viii); R.61-79.13(c)(3)(i)-(c)(3)(iii); R.61-79.273.14(d); R.61-79.273.33(c); R.61-79.273.33(c)(1); R.61-79.273.33(c)(2)-(c)(2)(viii); R.61-79.273.33(c)(3)(i); R.61-79.273.33(c)(3)(i)(A); R.61-79.273.33(c)(3)(i)(B); R.61-79.273.33(c)(3)(ii); R.61-79.273.33(c)(3)(iii); R.61-79.273.34(d).
Permit Modification. Checklist 44D | 52 FR 54788, 12/01/87 | SCHWMA 44-56-20. SCHWMA 44-56-30. SCHWMA 44-56-31. SCHWMA 44-56-35.
|  | SCHWMA 44-56-60.
|  | SCHWMA R.61-79.270.41(a)(3); R.61-79.270.41(a)(3)(i)-(iii).
Land Disposal Restrictions for Third Scheduled Wastes. Checklist 78 | 52 FR 22520, 06/01/90 | SCHWMA 44-56-30. SCHWMA 44-56-40. SCHWM R.61-79.261.20(b); R.61-79.261.21(b); R.61-79.261.22(b); R.61-79.261.23(b); R.61-79.261.24(b); R.61-79.261.31; R.61-79.261.33(c); Appendix VII; R.61-79.262.11(c); R.61-79.262.34(a)(4); R.61-79.264.13(a)(2); R.61-79.264.229; R.61-79.264.256; R.61-79.264.281; R.61-79.264.312; R.61-79.264.316(f); R.61-79.265.1(e); R.61-79.265.13(a)(2); R.61-79.265.229; R.61-79.265.256; R.61-79.265.281; R.61-79.265.312(a); R.61-79.265.312(b); R.61-79.265.316(f); R.61-79.268.1(c); R.61-79.268.2; R.61-79.268.2(a)-(f); R.61-79.268.2(f)(1)-(f)(3); R.61-79.268.2(g)-(g)(8); R.61-79.268.3(a); R.61-79.268.3(b); R.61-79.268.7(a)(1)(ii); R.61-79.268.7(a)(2)(i)(B); R.61-79.268.7(a)(3)(ii); R.61-79.268.7(a)(4); R.61-79.268.7(a)(4)(i)-(iv); R.61-79.268.7(a)(7); R.61-79.268.7(a)(8); R.61-79.268.7(a)(9); R.61-79.268.7(a)(7)(a)(9); R.61-79.268.7(b)(4)(ii); R.61-79.268.7(b)(5)(i); R.61-79.268.7(b)(5)(iii); R.61-79.268.7(b)(7); R.61-79.268.7(b)(7)(c); R.61-79.268.7(b)(7)(c)(3); R.61-79.268.7(b)(7)(c)(4); R.61-79.268.8(a); R.61-79.268.9(a); R.61-79.268.9(b); R.61-79.268.9(c); R.61-79.268.9(d); R.61-79.268.9(d)(1)-(d)(1)(iii); R.61-79.268.9(d)(2); R.61-79.268.35(a)-(i); R.61-79.268.35(i)(1)-(i)(4); R.61-79.268.35(j); R.61-79.268.40(a); R.61-79.268.40(c); R.61-79.268.41(a); R.61-79.268.41(a)/Table CCWE; R.61-79.268.42(a); R.61-79.268.42(c); R.61-79.268.42(c)(1)-(c)(4); R.61-79.268.42(d); R.61-79.268.43(a); R.61-79.268.43(a)/Table CCW; R.61-79.268.43(c); R.61-79.268.43(c)(1)-(c)(3); Appendix IV; Appendix V; Appendix VI; Appendix VII; Appendix VIII; R.61-79.270.42, Appendix I.
Consolidated Liability Requirements. Checklist 113 | 53 FR 33938, 09/01/1998; 56 FR 30200, 07/01/1991; 57 FR 42832, 09/16/1992 | SCHWMA 44-56-30. SCHWMA 44-56-60. SCHWM R.61-79.264.141(h); R.61-79.264.143(f)(10)-(f)(11); R.61-79.264.147(a); R.61-79.264.147(a)(2)-(a)(7); R.61-79.264.147(a)(7)(i)-(iii); R.61-79.264.147(b); R.61-79.264.147(b)(2)-(b)(7); R.61-79.264.147(b)(7)(i)-(iii); R.61-79.264.147(f)(6); R.61-79.264.147(g); R.61-79.264.147(g)(1); R.61-79.264.147(g)(1)(ii); R.61-79.264.147(g)(2); R.61-79.264.147(g)(2)(ii); R.61-79.264.147(h); R.61-79.264.147(h)(1)-(h)(5); R.61-79.264.147(i); R.61-79.264.147(i)(1)-(i)(4)(ii); R.61-79.264.147(j); R.61-79.264.147(j)(1)-(j)(4); R.61-79.264.147(k); R.61-79.264.151(b); R.61-79.264.151(f); R.61-79.264.151(g); R.61-79.264.151(h)(1)-(h)(2); R.61-79.264.151(i)(2)(d); R.61-79.264.151(j)(2)(d); R.61-79.264.151(k); R.61-79.264.151(l); R.61-79.264.151(m)(l)-(m)(2); R.61-79.264.151(n)(1)-(n)(2); R.61-79.265.141(h); R.61-79.265.143(e)(10); R.61-79.265.145(e)(11); R.61-79.265.147(a); R.61-79.265.147(a)(2)-(a)(7); R.61-79.265.147(a)(7)(i)-(iii); R.61-79.265.147(b); R.61-79.265.147(b)(2)-(b)(7); R.61-79.265.147(b)(7)(i)-(iii); R.61-79.265.147(f)(6); R.61-79.265.147(g); R.61-79.265.147(g)(1); R.61-79.265.147(g)(1)(ii); R.61-79.265.147(g)(2); R.61-79.265.147(g)(2)(ii); R.61-79.265.147(h); R.61-79.265.147(h)(1)-(h)(5); R.61-79.265.147(i); R.61-79.265.147(i)(1)-(i)(4)(ii); R.61-79.265.147(j); R.61-79.265.147(j)(1)-(j)(4); R.61-79.265.147(k).
Exceptions to the burning and blending of hazardous waste | HSWA 3004(q)(2)(A); HSWA 3004(r)(2)&(3) | SCHWMA 44-56-30. SCHWMA 44-56-50.
Surface impoundment requirements | HSWA 3005(j) | SCHWMA 44-56-60. SCHWMA 48-1-10.
Liquid in Landfills III. Checklist 145 | 60 FR 35703, 7/11/1995 | SCHWMA 44-56-30. SCHWMA 48-1-10. SCHWM R.61-79.264.314(e)(2)(ii); R.61-79.264.314(e)(2)(iii); R.61-79.265.314(f)(2)(ii); R.61-79.265.314(f)(2)(iii).
RCRA Expanded Public Participation. Checklist 48 | 60 FR 63417, 12/11/1995 | SCHWMA 44-56-30. SCHWMA 44-56-40. SCHWMA 44-56-60.
|  | SCHWM R.61-79.124.31; R.61-79.124.31(a)-(d); R.61-79.124.31(d)(1)-(d)(2)(v); R.61-79.124.32(a)-(c); R.61-79.124.33(a)-(f); R.61-79.270.2; R.61-79.270.14(b)(22); R.61-79.270.30; R.61-79.270.61(b)(5); R.61-79.270.62(b)(6); R.61-79.270.62(b)(6)(i)-(ii)(D); R.61-79.270.62(b)(7); R.61-79.270.62(b)(8)-(11); R.61-79.270.66(d)(3); R.61-79.270.66(d)(3)(ii); R.61-79.270.66(d)(3)(ii)(A)-(D); R.61-79.270.66(d)(4); R.61-79.270.66(d)(5)&(D)(6); R.61-79.270.66(g).
Amendments to the Definition of Solid Waste; Amendment II, Checklist 150 | 61 FR 13103, 03/26/1996 | SCHWMA 44-56-30. SCHWMA 44-56-40. SCHWM R.61-79.261.4(a)(12).
Land Disposal Restrictions Phase III—Decharacterized Wastewaters, Carbamate Waste, and Spent Potliners. Checklist 151 | 61 FR 15566, 04/08/1996; 61 FR 15560, 04/08/1996; 61 FR 19117, 04/30/1996; 61 FR 33680, 06/28/1996; 61 FR 36419, 07/10/1996; 61 FR 43924, 08/26/1996; 61 FR 7502, 02/19/1997 | SCHWMA 44-56-30. SCHWM R.61-79.268.1(c)(3); R.61-79.268.1(c)(3)(i)-(iii); R.61-79.268.1(c)(4) R.61-79.268.1(c)(4)(i)-(iv); R.61-79.268.1(e)(3); R.61-79.268.1(e)(4); R.61-79.268.1(e)(4)(i)-(ii) R.61-79.268.1(e)(5); R.61-79.268.2(f); R.61-79.268.2(f)(1)-(f)(3); R.61-79.268.2(i); R.61-79.268.2(j); R.61-79.268.2(k); R.61-79.268.3(a); R.61-79.268.3(b); R.61-79.268.3(c); R.61-79.268.3(c)(1)-(c)(6); R.61-79.268.7(a); R.61-79.268.7(a)(1)(iv); R.61-79.268.7(a)(1)(v); R.61-79.268.7(a)(1)(vi); R.61-79.268.7(a)(2)(i)(B); R.61-79.268.7(a)(3)(ii); R.61-79.268.7(b)(5)(iv); R.61-79.268.8; R.61-79.268.9(a); R.61-79.268.9(d); R.61-79.268.9(d)(1)(i)-(ii); R.61-79.268.9(d)(3); R.61-79.268.9(d)(3)(i)-(iv); R.61-79.268.9(e); R.61-79.268.39(a)-(g); R.61-79.268.40(a); R.61-79.268.40(e)-(e)(4); R.61-79.268.40(g); R.61-79.268.40/Table; R.61-79.268.42/Table 1; R.61-79.268.44(a); R.61-79.268.44(a)/Table UTS; Appendix XI.
Conditionally Exempt Small Quantity Generator Disposal Options Under Subtitle D. Checklist 153 | 61 FR 34252, 07/01/1996 | SCHWMA 44-56-30. SCHWM R.61-79.261.5(f)(3); R.61-79.261.5(f)(3)(i)-(iii); R.61-79.261.5(f)(3)(iv); R.61-79.261.5(f)(3)(v); R.61-79.261.5(f)(3)(vi); R.61-79.261.5(f)(3)(vii); R.61-79.261.5(g)(3); R.61-79.261.5(g)(3)(i)-(iii); R.61-79.261.5(g)(3)(iv); R.61-79.261.5(g)(3)(v); R.61-79.261.5(g)(3)(vi); R.61-79.261.5(g)(3)(vii).
Consolidated Organic Air Emission Standards for Tanks, Surface Impoundments, and Containers. Checklist 154 | 59 FR 62896, 12/06/1994; 60 FR 26828, 05/19/1995; 60 FR 50426, 09/29/1995; 60 FR 56952, 11/13/1995; 61 FR 4903, 02/09/1996; 61 FR 28508, 06/05/1996; 61 FR 59932, 11/25/1996 | SCHWMA 44-56-30. SCHWMA 44-56-60. SCHWM R.61-79, Appendix A. SCHWM R.61-79.260.11(a); R.61-79.260.11(b); R.61-79.261.6(c)(1); R.61-79.262.34(a)(1)(i); R.61-79.262.34(a)(1)(ii); R.61-79.262.34(d)(2); R.61-79.264.13(b)(6); R.61-79.264.13(b)(8); R.61-79.264.13(b)(8)(i)-(ii); R.61-79.264.15(b)(4); R.61-79.264.73(b)(3); R.61-79.264.73(b)(6); R.61-79.264.77(c); R.61-79.264.179; R.61-79.264.200; R.61-79.264.232; R.61-79.264.601; R.61-79.264.1030(b); R.61-79.1030(b)(1)-(b)(3); R.61-79.264.1030/note at end.; R.61-79.264.1033(a)(2); R.61-79.264.1033(f)(2)(vi)(B); R.61-79.264.1033(k); R.61-79.264.1033(k)(1)-(2); R.61-79.264.1033(l); R.61-79.264.1033(l)(1)-(l)(1)(iv); R.61-79.264.1033(l)(2);R.61-79.264.1033(l)(2)(i)-(l)(2)(iv); R.61-79.264.1033(l)(3); R.61-79.264.1033(l)(3)(i)-(l)(3)(iv); R.61-79.264.1033(m); R.61-79.264.1033(n); R.61-79.264.1033(n)(1)-(n)(1)(iii); R.61-79.264.1033(n)(2); R.61-79.264.1033(n)(2)-(n)(2)(ii); R.61-79.264.1033(n)(3); R.61-79.264.1033(n)(3)-(n)(3)(ii); R.61-79.264.1033(o); R.61-79.264.1033(o)(1); R.61-79.264.1033(o)(2); R.61-79.264.1034(b); R.61-79.264.1035(c)(9); R.61-79.264.1035(c)(10); R.61-79.264.1035(c)(10)(i)-(c)(10)(v)(B); R.61-79.264.1035(d); R.61-79.264.1050(b); R.61-79.264.1050(b)(1)-(b)(3); R.61-79.264.1050(f); R.61-79.264.1050/note at end.; R.61-79.264.1055(a); R.61-79.264.1055(b)-(b)(3); R.61-79.264.1055(c); R.61-79.264.1058(e); R.61-79.264.1064(g)(6); R.61-79.264.1080(a); R.61-79.264.1080(b)-(b)(8); R.61-79.264.1080(c); R.61-79.264.1080(d)-(d)(3); R.61-79.264.1081; R.61-79.264.1082(a)(c); R.61-79.264.1082(c)(1)-(c)(5)(iii); R.61-79.264.1083(c)-(c)(2); R.61-79.264.1083(d); R.61-79.264.1084(a); R.61-79.264.1084(b)-(b)(2); R.61-79.264.1084(c)-(c)(4)(iv); R.61-79.264.1084(d)-(d)(5); R.61-79.264.1084(e)-(e)(3)(vi); R.61-79.264.1084(f)-(f)(3)(iii)(C); R.61-79.264.1084(g)-(g)(3)(v); R.61-79.264.1084(h)-(h)(3); R.61-79.264.1084(i)-(i)(4); R.61-79.264.1084(j)-(j)(2)(ii); R.61-79.264.1084(k)-(k)(2); R.61-79.264.1084(l)-(l)(2); R.61-79.264.1085(a); R.61-79.264.1085(b)-(b)(2); R.61-79.264.1085(c)-(c)(3)(iv); R.61-79.264.1085(d)-(d)(3)(v); R.61-79.264.1085(e)-(e)(2)(ii); R.61-79.264.1085(f)-(f)(2); R.61-79.264.1085(g)-(g)(2); R.61-79.264.1086(a); R.61-79.264.1086(b)-(b)(2); R.61-79.264.1086(c)-(c)(5); R.61-79.264.1086(d)-(d)(4)(iii); R.61-79.264.1086(e)-(e)(5); R.61-79.264.1086(f)-(f)(4); R.61-79.264.1086(g)-(g)(2); R.61-79.264.1086(h)-(h)(3); R.61-79.264.1087(a);
|  | R.61-79.264.1087(b)-(b)(4); R.61-79.264.1083(c)-(c)(7); R.61-79.264.1088(a); R.61-79.264.1088(b); R.61-79.264.1089(a); R.61-79.264.1089(b)-(b)(2)(iv)(B); R.61-79.264.1089(c)-(c)(4); R.61-79.264.1089(d)-(d)(2); R.61-79.264.1089(e)-(e)(1)(vii); R.61-79.264.1089(f)-(f)(2); R.61-79.264.1089(g); R.61-79.264.1089(h); R.61-79.264.1089(i)-(i)(3)(ii); R.61-79.264.1090(a); R.61-79.264.1090(b); R.61-79.264.1090(c)-(c)(2); R.61-79.264.1090(c)/undesignated text after (c)(2); R.61-79.264.1090(d)-(d)(2); R.61-79.264.1091; R.61-79.265.1(b); R.61-79.265.13(b)(6); R.61-79.265.13(b)(8)-(b)(8)(ii); R.61-79.265.15(b)(4); R.61-79.265.73(b)(3); R.61-79.265.73(b)(6); R.61-79.265.77(d); R.61-79.265.178; R.61-79.265.202; R.61-79.265.231; R.61-79.265.1030(b); R.61-79.265.1030(b)(1)-(b)(3); R.61-79.265.1030/note at end; R.61-79.265.1033(a)(2); R.61-79.265.1033(m)(1)-(m)(1)(iii); R.61-79.265.1033(m)(2)-(m)(2)(ii); R.61-79.265.1033(m)(3)-(m)(3)(ii); R.61-79.265.1033(n)-(n)(2); R.61-79.265.1034(b); R.61-79.265.1035(c)(3); R.61-79.265.1035(c)(9); R.61-79.265.1035(c)(10)-(c)(10)(v)(B); R.61-79.265.1035(d); R.61-79.265.1050(b)-(b)(3); R.61-79.265.1050(e); R.61-79.265.1050/note at end; R.61-79.265.1055(a); R.61-79.265.1055(b)-(b)(3); R.61-79.265.1055(c); R.61-79.265.1058(e); R.61-79.265.1064(g)(6); R.61-79.265.1080(a); R.61-79.265.1080(b); R.61-79.265.1080(b)(1)-(b)(8); R.61-79.265.1080(c); R.61-79.265.1080(c)(1)-(c)(2); R.61-79.265.1080(d); R.61-79.265.1080(d)(1)-(d)(3); R.61-79.265.1081; R.61-79.265.1082(a); R.61-79.265.1082(a)(1)-(a)(2)(iv); R.61-79.265.1082(b); R.61-79.265.1082(b)(1)-(b)(2)(iii); R.61-79.265.1082(c); R.61-79.265.1083(a); R.61-79.265.1083(b); R.61-79.265.1083(c); R.61-79.265.1083(c)(1)-(c)(5)(iii); R.61-79.265.1083(d); R.61-79.265.1083(d)(1)-(d)(5)(iii); R.61-79.265.1084(a); R.61-79.265.1084(a)(1)-(a)(4)(iv); R.61-79.265.1084(b); R.61-79.265.1084(b)(1)-(b)(9)(iv); R.61-79.265.1084(c); R.61-79.265.1084(c)(1)-(c)(4); R.61-79.265.1084(d); R.61-79.265.1084(d)(1)-(d)(9); R.61-79.265.1085(a); R.61-79.265.1085(b)-(b)(2); R.61-79.265.1085(c); R.61-79.265.1085(c)(1)-(c)(4)(iv); R.61-79.265.1085(d)-(d)(5); R.61-79.265.1085(e); R.61-79.265.1085(e)(1)-(e)(3)(vi); R.61-79.265.1085(f); R.61-79.265.1085(f)(1)-(f)(3)(iii)(C); R.61-79.265.1085(g); R.61-79.265.1085(g)(1)-(g)(3)(v); R.61-79.265.1085(h); R.61-79.265.1085(h)(1)-(h)(3)(i)(4); R.61-79.265.1085(j); R.61-79.265.1085(j)(1)-(j)(2)(i)(ii); R.61-79.265.1085(k); R.61-79.265.1085(k)(1)-(k)(2); R.61-79.265.1085(l); R.61-79.265.1085(l)(1)-(l)(2); R.61-79.265.1086(a); R.61-79.265.1086(d)-(d)(3)(v); R.61-79.265.1086(e); R.61-79.265.1086(e)(1)-(e)(2)(ii); R.61-79.265.1086(f); R.61-79.265.1086(f)(1)-(f)(2); R.61-79.265.1086(g)-(g)(2); R.61-79.265.1087(a); R.61-79.265.1087(b); R.61-79.265.1087(b)(1)-(b)(2); R.61-79.265.1087(c); R.61-79.265.1087(c)(1)-(c)(5); R.61-79.265.1087(d); R.61-79.265.1087(d)-(d)(4)(iii); R.61-79.265.1087(e); R.61-79.265.1087(e)(1)-(e)(5); R.61-79.265.1086(f); R.61-79.265.1086(f)(1)-(f)(4); R.61-79.265.1087(g); R.61-79.265.1087(g)-(g)(2); R.61-79.265.1087(h); R.61-79.265.1087(h)(1)-(h)(3); R.61-79.265.1088(a); R.61-79.265.1088(b)(1)-(b)(4); R.61-79.265.1088(c); R.61-79.265.1088(c)(1)-(c)(7); R.61-79.265.1089(a); R.61-79.265.1089(b); R.61-79.265.1090(a); R.61-79.265.1090(b); R.61-79.265.1090(b)(1)-(b)(2)(iv)(B); R.61-79.265.1090(c); R.61-79.265.1090(c)(1)-(c)(4); R.61-79.265.1090(d); R.61-79.265.1090(d)-(d)(2); R.61-79.265.1090(e); R.61-79.265.1090(e)(1)-(e)(1)(vii); R.61-79.265.1090(f); R.61-79.265.1090(f)(1)-(f)(2); R.61-79.265.1090(g); R.61-79.265.1090(h); R.61-79.265.1090(i); R.61-79.265.1087(i)-(i)(3)(ii); R.61-79.265.1091; R.61-79 Part 265, Appendix VI; R.61-79.270.4(a)(2)-(a)(4); R.61-79.270.14(b)(5); R.61-79.270.15(e); R.61-79.270.16(k); R.61-79.260.17(j); R.61-79.270.27(a); R.61-79.270.27(a)(1)-(a)(7).
Land Disposal Restrictions Phase III—Emergency Estension of the K088 Capacity Variance. Checklist 155 | 62 FR 1992, 01/14/1997 | SCHWMA 44-56-30. SCHWM R.61-79.268.39(c).
Military Munitions Rule: Hazardous Waste Identification and Management; Explosive Emergencies; Manifest Exemptions for Transport of Hazardous Waste on Right-of-Ways on Contiguous Properties. Checklist 156 | 62 FR 6622, 02/12/1997 | SCHWMA 44-56-30. SCHWMA 44-56-70.
|  | SCHWM R.61-79.260.10; R.61-79.261.2(a)(2)(iii); R.61-79.261.2(a)(2)(iv); R.61-79.262.10(i); R.61-79.262.20(f); R.61-79.263.10(e); R.61-79.263.10(f); R.61-79.264.1(g)(8)(i)(D); R.61-79.264.1(g)(8)(e)(iv); R.61-79.264.1(i); R.61-79.264.70; R.61-79.264.1200; R.61-79.264.1201(a); R.61-79.264.1201(a)(1)-(a)(5); R.61-79.264.1201(b); R.61-79.264.1201(b)(1)-(b)(3); R.61-79.264.1201(c); R.61-79.264.1201(d); R.61-79.264.1201(e); R.61-79.264.1201(f); R.61-79.264.1201(a); R.61-79.264.1201(b); R.61-79.265.1(c)(11)(i)(D); R.61-79.265.1(f); R.61-79.265.70; R.61-79.265.1200; R.61-79.265.1201(a); R.61-79.265.1201(a)(1)-(a)(5); R.61-79.265.1201(b); R.61-79.265.1201(b)(1)-(b)(3); R.61-79.265.1201(c); R.61-79.265.1201(d); R.61-79.265.1201(e); R.61-79.265.1201(f); R.61-79.265.1202(a); R.61-79.265.1202(b); R.61-79.266.200(a); R.61-79.266.200(b); R.61-79.266.201 intro; R.61-79.266.201; R.61-79.266.202(a); R.61-79.266.202(a)(1)-(a)(2); R.61-79.266.202(b); R.61-79.266.202(b)(1)-(b)(4); R.61-79.266.202(c); R.61-79.266.202(c)(1)-(c)(2); R.61-79.266.202(d); R.61-79.266.203(a); R.61-79.266.203(a)(1)-(a)(4); R.61-79.266.203(b); R.61-79.266.203(c); R.61-79.266.204; R.61-79.266.205(a); R.61-79.266.205(a)(1)-(a)(3); R.61-79.266.205(b); R.61-79.266.205(c); R.61-79.266.205(d); R.61-79.266.205(d)(1)-(d)(2); R.61-79.266.205(e); R.61-79.266.206; R.61-79.270.1(c)(3)(i)(D); R.61-79.270.1(c)(3)(iii); R.61-79.270.42(h); R.61-79.270.42(h)(1)-(h)(3); R.61-79.270.42(i).
Land Disposal Restrictions Phase IV Treatment Standards for Wood Preserving Wastes, Paperwork Reduction and Streamlining, Exemptions From RCRA for Certain Processed Materials; and Miscellaneous Hazardous Waste Provisions. Checklist 157 | 62 FR 25998, May 12, 1997 | SCHWMA 44-56-30. SCHWM R.61-79.261.1(c)(9)-(c)(12); R.61-79.261.1(c)/Table 1; R.61-79.261.4(a)(13); R.61-79.261.4(a)(14)-(a)(14)(ii); R.61-79.261.6(a)(3)(ii); R.61-79.268.1(e)(4)(ii); R.61-79.268.4(a)(2)(iv); R.61-79.268.4(a)(4); R.61-79.268.7(a)(intro); R.61-79.268.7(a)(1); R.61-79.268.7(a)(1)-(a)(10); R.61-79.268.7(b)(1)-(b)(6); R.61-79.268.7(c)(1)-(c)(2); R.61-79.268.9(a); R.61-79.268.9(d)(1)(ii); R.61-79.268.30(a); R.61-79.268.30(a)(1)-(4); R.61-79.268.30(b); R.61-79.268.30(c); R.61-79.268.30(d); R.61-79.268.30(d)(1)-(d)(4); R.61-79.268.30(e); R.61-79.268.32-268.36; R.61-79.268.40/Table of Treatment Standards for Hazardous Wastes; R.61-79.268.42/Table 1; R.61-79.268.44(o); R.61-79.268.44(o)/Table 1; R.61-79.268 Appendices I, II, III, and X; R.61-79.268 Appendix VI; R.61-79.268 Appendix VII; R.61-79.268 Appendix VIII; R.61-79.268 Appendix X.
Testing and Monitoring Activities Amendment III. Checklist 158 | 62 FR 32452, 06/13/1997 | SCHWMA 44-56-30. SCHWMA 44-56-40. SCHWM R.61-79.260.11(a)(intro); R.61-79.260.11(a)(1)-(a)(15); R.61-79.264.1034(d)(1)(iii); R.61-79.264.1034(f); R.61-79.264.1063(d)(2); R.61-79.264 Appendix IX, footnote 5; R.61-79.265.1034(d)(1)(iii); R.61-79.265.1034(f); R.61-79.265.1063(d)(2); R.61-79.266.104(e)(1); R.61-79.266.106(g)(1)-(g)(2); R.61-79.266.107(f); R.61-79 Appendix IX, Section 3.0, Note.
Conformance With the Carbamate Vacatur. Checklist 159 | 62 FR 32974, 06/17/1997 | SCHWMA 44-56-30. SCHWM R.61-79.261.32/table; R.61-79.261.33(f); R.61-79.261 Appendix VII; R.61-79.261 Appendix VIII; R.61-79.268.39(a); R.61-79.268.39(d); R.61-79.268.40 table.
¹ The South Carolina provisions are from the South Carolina Hazardous Waste Management Regulations, September 25, 1998, unless otherwise stated.

H. Where Are the Revised State Rules Different From the Federal Rules?

South Carolina has incorporated the Federal hazardous waste export provisions at 40 CFR part 262, Subparts E and H into its regulations at R.61-79.262. Subparts E and H requirements will be administered by EPA because the exercise of foreign relations and international commerce powers is reserved to the Federal government under the Constitution. South Carolina was encouraged to adopt these regulations for the convenience of the regulated community.

I. Who Handles Permits After the Authorization Takes Effect?

South Carolina will issue permits for all the provisions for which it is authorized and will administer the permits it issues. EPA will continue to administer any RCRA hazardous waste permits or portions of permits which we issued prior to the effective date of this authorization. At the time the State Program is approved in the new areas, EPA will suspend issuance of Federal permits in the State and terminate those Federal permits issued pursuant to 40 CFR § § 124.5 and 271.8 upon effectiveness of equivalent state permit conditions and South Carolina's compliance with 271.13(d). EPA will also transfer any pending permit applications, completed permits, or pertinent file information to the State within thirty (30) days of the approval of the State Program in conformance with the conditions of this agreement. We will not issue any more new permits or new portions of permits for the provisions listed in the Table above after the effective date of this authorization. EPA will continue to implement and issue permits for HSWA requirements for which South Carolina is not yet authorized.

J. How Does Today's Action Affect Indian Country (18 U.S.C. 115) in South Carolina?

South Carolina has not requested authorization to carry out its hazardous waste program in Indian Country within the State, which includes the Catawba Indian Nation, and therefore is not authorized to carry out its hazardous waste program in Indian Country within the State. As a result, this action has no effect on Indian Country. EPA will continue to implement and administer the RCRA program in these lands.

K. What Is Codification and Is EPA Codifying South Carolina's Hazardous Waste Program as Authorized in This Rule?

Codification is the process of placing the State's statutes and regulations that comprise the State's authorized hazardous waste program into the Code of Federal Regulations. We do this by referencing the authorized State rules in 40 CFR part 272. We reserve the amendment of 40 CFR part 272, subpart PP for this authorization of South Carolina's program until a later date.

L. Administrative Requirements

The Office of Management and Budget has exempted this action from the requirements of Executive Order 12866 (58 FR 51735, October 4, 1993), and therefore this action is not subject to review by OMB. This action authorizes State requirements for the purpose of RCRA 3006 and imposes no additional requirements beyond those imposed by State law. Accordingly, I certify that this action will not have a significant economic impact on a substantial number of small entities under the Regulatory Flexibility Act (5 U.S.C. 601 et seq.). Because this action authorizes pre-existing requirements under State law and does not impose any additional enforceable duty beyond that required by State law, it does not contain any unfunded mandate or significantly or uniquely affect small governments, as described in the Unfunded Mandates Reform Act of 1995 (Public Law, 104-4). For the same reason, this action does not have tribal implications within the meaning of Executive Order 13175 (65 FR 67249, November 6, 2000). It does not have substantial direct effects on tribal governments, on the relationship between the Federal government and the Indian tribes, or on the distribution of power and responsibilities between the Federal government and Indian tribes, as specified in Executive Order 13175. This action will not have substantial direct effects on the States, on the relationship between the national government and the States, or on the distribution of power and responsibilities among the various levels of government, as specified in Executive Order 131,132 (64 FR 43255, August 10, 1999), because it merely authorizes State requirements as part of the State RCRA hazardous waste program without altering the relationship or the distribution of power and responsibilities established by RCRA. This action also is not subject to Executive Order 13045 (62 FR 19885, April 23, 1997), because it is not economically significant and it does not make decisions based on environmental health or safety risks. This rule is not subject to Executive Order 13211, “Actions Concerning Regulations That Significantly Affect Energy Supply, Distribution, or Use” (66 FR 28355 (May 22, 2001)) because it is not a significant regulatory action under Executive Order 12866.

Under RCRA 3006(b), EPA grants a State's application for authorization as long as the State meets the criteria required by RCRA. It would thus be inconsistent with applicable law for EPA, when it reviews a State authorization, to require the use of any particular voluntary consensus standard in place of another standard that otherwise satisfies the requirements of RCRA. Thus, the requirements of section 12(d) of the National Technology Transfer and Advancement Act of 1995 (15 U.S.C. 272 note) do not apply. As required by section 3 of Executive Order 12988 (61 F.R. 4729, February 7, 1996), in issuing this rule, EPA has taken the necessary steps to eliminate drafting errors and ambiguity, minimize potential litigation, and provide a clear legal standard for affected conduct. EPA has complied with Executive Order 12630 (53 F.R. 8859, March 15, 1988) by examining the takings implications of the rule in accordance with the “Attorney General's Supplemental Guidelines for the Evaluation of Risk and Avoidance of Unanticipated Takings” issued under the executive order. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this document and other required information to the U.S. Senate, the U.S. House of Representatives, and the Comptroller General of the United States prior to publication in the Federal Register. A major rule cannot take effect until 60 days after it is published in the Federal Register. This action is not a “major rule” as defined by 5 U.S.C. 804(2). This action will be effective October 22, 2001.

List of Subjects in 40 CFR Part 271

Environmental protection, Administrative practice and procedure, Confidential business information, Hazardous waste, Hazardous waste transportation, Indian lands, Intergovernmental relations, Penalties, Reporting and recordkeeping requirements.

Authority: This action is issued under the authority of sections 2002(a), 3006 and 7004(b) of the Solid Waste Disposal Act as amended 42 U.S.C. 6912(a), 6926, 6974(b).

Dated: May 12, 2001.
A. Stanley Meiburg,
Acting Regional Administrator, Region IV.

[FR Doc. 01-20786 Filed 8-20-01; 8:45 am]

BILLING CODE 6560-50-P